DEPARTMENT OF LABOR

Occupational Safety and Health Administration

[Docket No. OSHA-2023-0003]

National Advisory Committee on Occupational Safety and Health (NACOSH); Notice of Membership Appointments

AGENCY: Occupational Safety and Health Administration (OSHA), Labor.

ACTION: Notice of NACOSH membership appointments.

SUMMARY: On November 1, 2023, the Acting Secretary of Labor appointed two members to serve on the National Advisory Committee on Occupational Safety and Health (NACOSH).

FOR FURTHER INFORMATION CONTACT:

For press inquiries: Mr. Francis Meilinger, Director, OSHA Office of Communications, U.S. Department of Labor; telephone (202) 693-1999, (TTY (877) 889-5627); email meilinger.francis2@dol.gov.

For general information: Ms. Lisa Long, Acting Deputy Director, Directorate of Standards and Guidance, OSHA, U.S. Department of Labor; telephone (202) 693-2409; email long.lisa@dol.gov.

For copies of this Federal Register Notice: Electronic copies of this Federal Register notice are available at http://www.regulations.gov. This notice, as well as news releases and other relevant information, are also available at OSHA's web page at www.osha.gov.

SUPPLEMENTARY INFORMATION:

I. Background

The Occupational Safety and Health Act of 1970 (OSH Act) (29 U.S.C. 651, 656) established NACOSH to advise, consult with, and make recommendations to the Secretary of Labor and the Secretary of Health and Human Services (HHS) on matters relating to the administration of the OSH Act. NACOSH is a continuing advisory committee of indefinite duration.

NACOSH operates in accordance with the Federal Advisory Committee Act (FACA) (5 U.S.C. App. 2), its implementing regulations (41 CFR part 102-3), and OSHA's regulations on advisory committees and NACOSH (29 CFR parts 1912 and 1912a).

NACOSH is comprised of 12 members: four public representatives, two management representatives, two labor representatives, two occupational safety professional representatives, and two occupational health professional representatives (29 CFR 1912a.2). The Secretary of Labor appoints all of these members. However, the Secretary of HHS designates four of the representatives: two of the four public representatives and the two occupational health professional representatives. NACOSH members serve staggered two-year terms, unless the member becomes unable to serve, resigns, ceases to be qualified to serve, or is removed by the Secretary.

On July 31, 2023, OSHA published a request for nominations for two HHS designated NACOSH positions that would expire on November 15, 2023 (88 FR 49504). Specifically, OSHA requested nominations for:

• One (1) public representative (HHS); and

• One (1) occupational health professional representative (HHS).

OSHA handled the nominations consistent with the process identified in the FRN. The Acting Secretary of Labor proceeded with the appointment of individuals to two positions on November 1, 2023.

II. Appointment of Committee Members

OSHA received nominations of highly qualified individuals in response to the agency's request for nominations (88 FR 49504, July 31, 2023). The Acting Secretary appointed NACOSH members on the basis of their experience and competence in the field of occupational safety and health (29 CFR 1912a.2). The NACOSH members that the Acting Secretary appointed on November 1, 2023 with terms expiring on November 15, 2025 are:

HHS Designated Public Representative

• Cynthia Lewis, University of Arkansas for Medical Sciences, Health Policy & Management

HHS Designated Occupational Health Representative

• Bobbi Jo Hurst, Orthopedic Associates of Lancaster, PA.

Authority and Signature:

James S. Frederick, Deputy Assistant Secretary of Labor for Occupational Safety and Health, directed the preparation of this notice under the authority granted by 29 U.S.C. 655(b)(1) and 656(b), 5 U.S.C. App. 2, and 29 CFR parts 1912 and 1912a.

Signed at Washington, DC.
James S. Frederick,
Deputy Assistant Secretary of Labor for Occupational Safety and Health.

[FR Doc. 2023-24917 Filed 11-13-23; 8:45 am]

BILLING CODE 4510-26-P